DEPARTMENT OF COMMERCE

Foreign Trade Zones Board

[Docket 2-2004]

Foreign-Trade Zone—Galveston, Texas; Correction

The Federal Register notice (69 FR 5315, 2/4/04), describing the expansion of Foreign-Trade Zone 36, located in the Galveston, Texas, area, is corrected as follows:

Paragraph 3, Sentence 1, should read “The applicant is now requesting authority to reorganize Site 1 to add 4 parcels (112 acres) and to combine the existing parcels of 3.99 acres (Site 1, Tract 2) and 1.14 acres (Site 1, Tract 3) into Site 1, Tract 1. The applicant is requesting the removal of one tract (tract 1, 2.67 acres) from Site 1. Site 1, Tract 2, will be reorganized and will add 45 acres. The applicant is requesting the addition of 96 acres (1 tract) to Site 2.” Sites 1 and 2 are listed as Sites A and B in the original application. The application otherwise remains unchanged.

Comments on the change may be submitted to the Foreign-Trade Zones Board, U.S. Department of Commerce, FCB-Suite 4100W, 1401 Constitution Avenue, NW., Washington, DC 20230, by April 30, 2004.

Dated: March 31, 2004.
Dennis Puccinelli,
Executive Secretary.

[FR Doc. 04-8018 Filed 4-7-04; 8:45 am]

BILLING CODE 3510-DS-P